DEPARTMENT OF TRANSPORTATION

Coast Guard

33 CFR Parts 110 and 165

[CGD09-01-139]

RIN 2115-AA97 and 2115-AA98

Security Zone and Anchorage Regulations; Lake Michigan, Navy Pier, Chicago Harbor, Chicago, Illinois

AGENCY: Coast Guard, DOT.

ACTION: Temporary final rule, request for comments.

SUMMARY: The Coast Guard is establishing a temporary security zone and suspending an anchorage area encompassed by the security zone on the navigable waters of Lake Michigan around Chicago, Illinois. This security zone is necessary to protect the Navy Pier from possible sabotage or other subversive acts, accidents, or possible acts of terrorism. This zone is intended to restrict vessel traffic from a portion of Lake Michigan.

DATES: This rule is effective at 3 p.m. (local), December 17, 2001 until 11 a.m. (local) March 1, 2002.

ADDRESSES: Comments and material received from the public, as well as documents indicated in this preamble as being available in the docket, are part of docket CGD09-01-139 and are available for inspection or copying at 215 W. 83rd Street, Chicago, Illinois 60521 between 7:30 a.m. and 4 p.m., Monday through Friday, except Federal holidays.

FOR FURTHER INFORMATION CONTACT: Petty Officer Mike Hogan, U.S. Coast Guard Marine Safety Office Chicago, 215 W. 83rd Street, Burr Ridge, Illinois 60521. The telephone number is (630) 986-2175.

SUPPLEMENTARY INFORMATION:

Regulatory History

We did not publish a notice of proposed rulemaking (NPRM) for this regulation. Under 5 U.S.C. 553(b)(B), the Coast Guard finds that good cause exists for not publishing an NPRM, and, under 5 U.S.C. 553(d)(3), good cause exists for making this rule effective less than 30 days after publication in the Federal Register. Following the catastrophic nature and extent of damage realized from the aircraft flown into the World Trade Center towers, this rulemaking is urgently necessary to protect the national security interests of the United States against future potential terrorists strikes against public and governmental targets. A similar attack was conducted against the Pentagon on the same day. National security and intelligence officials warn that future terrorist attacks against civilian targets may be anticipated. Publication of a notice of proposed rulemaking and delay of effective date would be contrary to the public interest because immediate action is necessary to protect against the possible loss of life, injury, or damage to property.

Background and Purpose

On September 11, 2001, both towers of the World Trade Center, New York City, New York, were destroyed as a result of two commercial airliner crashes, an act of terrorism. This regulation establishes a security zone over the waters of Lake Michigan encompassed by a line drawn from the northeast corner of the Central District Filtration Plant, at 41° 53′46″ N, 87° 36′09″ W; then east to the breakwall at 41° 53′46″ N, 87° 35′30″ W; south to 41° 53′20″ N, 87° 35′30″ N; west to 41° 53′20″ N, 87° 36′20″ W; and then following the shoreline back to the point of origin. These coordinates are based upon North American Datum 1983 (NAD 83).

Since this security zone will encompass an already established anchorage area, this anchorage area will be suspended for the duration of this temporary security zone. The anchorage areas are described in 33 CFR 110.205, Chicago Harbor, Illinois. The anchorage areas specified in paragraph (a)(1), Anchorage A, exterior breakwaters and (a)(5), Anchorage E, Chicago Harbor Lock North, will be suspended.

This security zone is necessary to protect the public, the facilities, and the surrounding area from possible acts of sabotage or other subversive acts. All persons and vessels other that those approved by the Captain of the Port Chicago, or his authorized patrol representative, are prohibited from entering or moving within the zone without the prior approval of the Captain of the Port Chicago.

The Captain of the Port Chicago will generally permit those passenger vessels that normally operate from the Navy Pier to regularly transit the area. However, should the Captain of the Port Chicago determine it is appropriate, he will require even those vessels which normally operate from the Navy Pier to request permission before leaving or entering the security zone. The Captain of the Port Chicago may be contacted via VHF Channel 16.

In addition to publication in the Federal Register, the public will be made aware of the existence of this security zone, its exact location within these boundaries, and the restrictions involved, via Broadcast Notice to Mariners.

Pursuant to 33 U.S.C. 1232, any violation of the security zone described herein, is punishable by civil penalties (not to exceed $27,500 per violation, where each day of a continuing violation is a separate violation), criminal penalties (imprisonment for not more than 6 years and a fine of not more than $250,000), in rem liability against the offending vessel, and license sanctions. Any person who violates this regulation, using a dangerous weapon, or who engages in conduct that causes bodily injury or fear of imminent bodily injury to any officer authorized to enforce this regulation, also faces imprisonment up to 12 years (class C felony).

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT)(44 FR 11040, February 26, 1979).

The Coast Guard expects the economic impact of this proposal to be so minimal that a full Regulatory Evaluation under paragraph 10 (e) of the regulatory policies and procedures of DOT is unnecessary.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This security zone will not have a significant economic impact on a substantial number of small entities for the following reasons. This rule will not obstruct the regular flow of traffic and will allow vessel traffic to pass safely around the security zone. In addition, those passenger vessels that normally operate out of Navy Pier will be permitted to transit the zone. However, should the Captain of the Port Chicago determine it is appropriate, he may require even those vessels which normally operate from the Navy Pier to request permission from his on-scene representative before leaving or entering the security zone. The Captain of the Port Chicago's on-scene representative will be the Patrol Commander. The Captain of the Port Chicago will notify these vessels via Broadcast Notice to Mariners if they must notify the Coast Guard before transiting the security zone.

Assistance for Small Entities

Under section 213(a) of the Small Business Regulatory Enforcement Fairness Act of 1996 (Pub. L. 104-121), we offer to assist small entities in understanding the rule so that they could better evaluate its effects on them and participate in the rulemaking process. If you are a small entity and you need assistance in how the rule applies to you, please contact the office listed in ADDRESSES in this preamble.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that under figure 2-1, paragraph (34)(g), of Commandant Instruction M16475.lC, this rule is categorically excluded from further environmental documentation.

List of Subjects

33 CFR Part 110

Anchorage grounds.

33 CFR Part 165

Harbors, Marine safety, Navigation (water), Reporting and recordkeeping requirements, Security measures, Waterways.

For the reasons discussed in the preamble, the Coast Guard amends 33 CFR parts 110 and 165 as follows:

PART 110—ANCHORAGE REGULATIONS

1. The authority citation for part 110 continues to read as follows:

Authority: 33 U.S.C. 471, 1221 through 1236, 2030, 2035, and 2071; 49 CFR 1.46 and 33 CFR 1.05-1(g).

§ 110.205 [Amended]

2. In § 110.205, suspend paragraphs (a)(1) and (a)(5) from 3 p.m. (local) December 17, 2001, until 11 a.m. (local) March 1, 2002.

PART 165—REGULATED NAVIGATION AREAS AND LIMITED ACCESS AREAS.

3. The authority citation for part 165 continues to read as follows:

Authority: 33 U.S.C. 1231; 50 U.S.C. 191, 33 CFR 1.05-1(g), 6.04-1, 6.04-6, 160.5; 49 CFR 1.46.

4. A new temporary § 165.T09-112 is added to read as follows:

§ 165.T09-112 Security zone; Lake Michigan, Navy Pier, Chicago Harbor, Chicago, IL

(a) Location. The following is a security zone: All waters of Lake Michigan encompassed by a line drawn from the northeast corner of the Central District Filtration Plant (41°53′46″ N, 87°36′09″ W); then east to the breakwall at 41°53′46″ N, 87°35′30″ W; then south to 41°53′20″ N, 87°35′30″ W; west to 41°53′20″ N, 87°36′20″ W; then following the shoreline back to the point of origin (NAD 83).

(b) Effective dates. This section is effective from 3 p.m. December 17, 2001 through 11 a.m. (local), March 1, 2002.

(c) Regulations.

(1) This section is issued under § 7 of the Ports and Waterways Safety Act (33 U.S.C. 1226).

(2) In accordance with the general regulations in § 165.33 of this part, entry into or movement within this zone is prohibited unless authorized by the Coast Guard Captain of the Port Chicago.

(3) The Captain of the Port Chicago will generally permit those passenger vessels that normally operate from the Navy Pier to regularly transit the area. However, should the Captain of the Port Chicago determine it is appropriate, he will require even those vessels which normally operate from the Navy Pier to request permission before leaving or entering the security zone. The Captain of the Port Chicago will notify these vessels via Broadcast Notice to Mariners if they must notify the Coast Guard before transiting the security zone. The Captain of the Port Chicago may be contacted via VHF Channel 16.

(4) All persons and vessels shall comply with the instruction of the Captain of the Port Chicago or the designated on-scene U.S. Coast Guard patrol personnel. On-scene patrol personnel include commissioned, warrant, and petty officers of the U.S. Coast Guard on board Coast Guard, Coast Guard Auxiliary, local, state, and federal law enforcement vessels. Emergency response vessels are authorized to move within the zone but must abide by the restrictions imposed by the Captain of the Port.

Dated: December 17, 2001.
James D. Hull,
Rear Admiral, U.S. Coast Guard, Commander, Ninth Coast Guard District.

[FR Doc. 01-31844 Filed 12-26-01; 8:45 am]

BILLING CODE 4910-15-P